FEDERAL HOUSING FINANCE BOARD

Sunshine Act Meeting; Announcing an Open Meeting of the Board

Time and Date: 1 p.m., Wednesday, March 13, 2002.

Place: Board Room, Second Floor, Federal Housing Finance Board, 1777 F Street, NW, Washington, DC 20006.

Status: The entire meeting will be open to the public.

Matter To Be Considered During Portions Open to the Public

• Federal Home Loan Bank of Seattle Capital Plan

CONTACT PERSON FOR MORE INFORMATION: Elaine L. Baker, Secretary to the Board, (202) 408-2837.

James L. Bothwell,
Managing Director.

[FR Doc. 02-5735 Filed 3-6-02; 12:04 pm]

BILLING CODE 6725-01-P